DEPARTMENT OF HOMELAND SECURITY

Federal Emergency Management Agency

[Docket ID: FEMA-2023-0032; OMB No. 1660-NW170]

Agency Information Collection Activities: Proposed Collection, Comment Request; Generic Clearance for FEMA's Standardized Grants Performance Reporting

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the requirements of the Paperwork Reduction Act of 1995, this notice seeks comments concerning FEMA's grants performance reporting.

DATES: Comments must be submitted on or before February 9, 2024.

ADDRESSES: To avoid duplicate submissions to the docket, please submit comments at www.regulations.gov under Docket ID FEMA-2023-0032. Follow the instructions for submitting comments.

All submissions received must include the agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Cassandra Henry, Ph.D., CGMS, Monitoring and Compliance Branch, Risk Management Division, Grant Programs Directorate, FEMA, at 202-257-2308 or Cassandra.Henry@fema.dhs.gov. You may contact the Information Management Division for copies of the proposed collection of information at email address: FEMA-Information-Collections-Management@fema.dhs.gov.

SUPPLEMENTARY INFORMATION: In accordance with the Code of Federal Regulations (see 2 CFR 200.301 and 200.329), Federal awarding agencies must measure each recipient's performance to show achievement of program goals and objectives, share lessons learned, improve program outcomes, and foster adoption of promising practices. The Foundations for Evidence-Based Policy-Making Act of 2018 (Pub. L. 115-435) (“Evidence Act”) established processes for the Federal Government to modernize and increase impacts of reporting activities. To achieve these aims, the Federal Emergency Management Agency (FEMA) is changing its programmatic reporting to facilitate better and more consistent data collection. FEMA's Grant Programs Directorate (GPD) Risk Management Division (RMD) developed standard performance reporting instruments under this new generic collection for use across FEMA's grant programs. These instruments will replace the current quarterly performance reporting that does not have a standard format.

Grant performance reporting is a Federal requirement; standardized instruments under this generic collection will serve as the minimum performance reporting requirement for all programs. FEMA grants will collect both performance and project effectiveness measures via the required instruments under this new generic collection. Each FEMA grant program will collect only relevant, useful data. FEMA will utilize a standard framework under this generic collection but will not require each program to create the same end-product. Programs will tailor grant performance reporting instruments based on the grant's specific objectives, activities, indicators, targets, and reporting measures most appropriate for each program's funding objectives. Instruments under this generic collection are not intended to replace all existing information collection instruments that are programmatic or statutorily specific (i.e., existing grant specific reporting).

Collection of Information

Title: Generic Clearance for FEMA's Standardized Grants Performance Reporting.

Type of Information Collection: New information collection.

OMB Number: 1660-NW170.

FEMA Forms: Not Applicable.

Abstract: Performance reporting is required for recipients of Federal Emergency Management Agency (FEMA) grants. However, the scope and detail of previous performance reporting varied across different FEMA grant programs. FEMA is changing its programmatic reporting to facilitate better data collection. The instruments under this generic collection will satisfy the minimum performance reporting requirement for all programs while introducing a common performance reporting framework. Individual grant programs will use this framework as a starting point and then develop tailored program-specific instruments based on the program's objectives, activities, indicators, and targets. Each FEMA grant program will collect only relevant, useful data. Performance data is used by FEMA to track recipient progress, monitor project execution, evaluate program outcomes, and respond to requests from Congress.

Affected Public: State, Local, and Tribal Governments; Private Sector.

Estimated Number of Respondents: 6,200.

Estimated Number of Responses: 24,800.

Estimated Total Annual Burden Hours: 744,000.

Estimated Total Annual Respondent Cost: $41,753,280.

Estimated Respondents' Operation and Maintenance Costs: $0.

Estimated Respondents' Capital and Start-Up Costs: $0.

Estimated Total Annual Cost to the Federal Government: $10,104,456.

Comments

Comments may be submitted as indicated in the ADDRESSES caption above. Comments are solicited to (a) evaluate whether the proposed data collection is necessary for the proper performance of the Agency, including whether the information shall have practical utility; evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-27122 Filed 12-8-23; 8:45 am]

BILLING CODE 9111-78-P